DEPARTMENT OF COMMERCE

International Trade Administration

[A-557-816]

Certain Steel Nails From Malaysia: Amended Final Determination of Sales at Less Than Fair Value

AGENCY: Enforcement and Compliance, International Trade Administration, Department of Commerce.

SUMMARY: The Department of Commerce (the Department) is amending its final determination in the less-than-fair-value investigation of certain steel nails from Malaysia, to correct a ministerial error.

DATES: Effective Date: June 16, 2015.

FOR FURTHER INFORMATION CONTACT: Edythe Artman or Steve Bezirganian, AD/CVD Operations, Office VI, Enforcement and Compliance, International Trade Administration, U.S. Department of Commerce, 14th Street and Constitution Avenue NW., Washington, DC 20230; telephone: (202) 482-3931 or (202) 482-1131, respectively.

SUPPLEMENTARY INFORMATION:

Background

On May 20, 2015, the Department published the final determination of the less-than-fair-value investigation of certain steel nails from Malaysia.¹ On May 22, 2015, Mid Continent Steel & Wire, Inc., (Petitioner), submitted a ministerial error allegation.² No other party commented on this allegation.

¹ See Certain Steel Nails From Malaysia; Final Determination of Sales at Less Than Fair Value, 80 FR 28969 (May 20, 2015) (Final Determination).

² See Letter from Petitioner to the Department, “Certain Steel Nails from Malaysia: Petitioner's Ministerial Error Allegation,” dated May 22, 2015.

Based on our analysis of this allegation, we revised the margin calculation for Region System Sdn. Bhd. and Region International Co., Ltd. (collectively, Region), and assigned a new All Others rate, as discussed below.³

³ See also the memorandum entitled “Amended Final Determination of the Less-Than-Fair-Value Investigation of Certain Steel Nails from Malaysia: Allegation of Ministerial Error,” dated concurrently with this determination and hereby adopted by this notice.

Scope of the Investigation

The scope of the investigation appears in Appendix I of the Final Determination.

Ministerial Error

Section 751(h) of the Tariff Act of 1930, as amended (the Act), and 19 CFR 351.224(f) define a “ministerial error” as an error “in addition, subtraction, or other arithmetic function, clerical error resulting from inaccurate copying, duplication, or the like, and any other similar type of unintentional error which the Secretary considers ministerial.”

Petitioner noted that in the Final Determination, we recalculated the U.S. warranty expense field such that it was denominated in U.S. dollars per kilogram, but then applied currency exchange conversions to the U.S. warranty expenses in the U.S. margin calculation as if they were denominated in Malaysian currency per kilogram. No other party commented on this allegation. We agree with Petitioner that we made a ministerial error within the meaning of 19 CFR 351.224(f) with respect to the recalculated U.S. warranty expense field. Therefore, we are amending the final determination in accordance with section 751(h) of the Act and 19 CFR 351.224(e).

Amended Final Determination

The Department determines that the following amended weighted-average dumping margins exist for the period April 1, 2013 through March 31, 2014, as discussed above: ⁴

⁴ Note that the weighted-average dumping margins of 39.35 percent identified in the Final Determination for Inmax Sdn. Bhd. (“Inmax”) and Tag Fasteners Sdn. Bhd. (“Tag”) remain unchanged. See Final Determination at 28970.

Exporter or producer | Weighted- average dumping margin (percent)
Region System Sdn. Bhd. and Region International Co., Ltd | 2.66
All Others | 2.66

Continuation of Suspension of Liquidation

The following cash deposit requirements will be effective upon publication of this notice for all shipments of subject merchandise entered, or withdrawn from warehouse, for consumption on or after the publication of this amended final determination, as provided by section 751(a)(2) of the Act: (1) The cash deposit rate for Region will be the rate we determined in this amended final determination (i.e., 2.66 percent); (2) the cash deposit rates for Inmax and Tag will continue to be those identified in the Final Determination (i.e., 39.35 percent) (3) if the exporter is not a firm identified in this investigation but the producer is, the rate will be the rate established for the producer of the subject merchandise; and (4) the rate for all other producers or exporters will be 2.66 percent, as indicated above. These suspension of liquidation instructions will remain in effect until further notice.

U.S. International Trade Commission Notification

In accordance with section 735(d) of the Act, we notified the U.S. International Trade Commission (ITC) of the Final Determination and our amended final determination. As the Final Determination and our preliminary determination were both affirmative, in accordance with section 735(b)(3) of the Act, the ITC will determine within 45 days of the Final Determination whether the domestic industry in the United States is materially injured, or threatened with material injury, by reason of imports or sales (or the likelihood of sales) for importation of the subject merchandise. If the ITC determines that such injury exists, the Department will issue an antidumping duty order directing CBP to assess, upon further instruction by the Department, antidumping duties on all imports of the subject merchandise entered, or withdrawn from warehouse, for consumption on or after the effective date of the suspension of liquidation.

This amended final determination notice is published in accordance with section 735(e) of the Act and 19 CFR 351.224(e).

Dated: June 10, 2015.
Paul Piquado,
Assistant Secretary for Enforcement and Compliance.

[FR Doc. 2015-14767 Filed 6-15-15; 8:45 am]

BILLING CODE 3510-DS-P